FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 9, 2019.

A. Federal Reserve Bank of Minneapolis (Chris Wangen, Assistant Vice President) 90 Hennepin Avenue, Minneapolis, Minnesota 55480-0291:

1. Stephen P. Stenehjem, West Fargo, North Dakota, Erik P. Stenehjem, Paradise Valley, Arizona, Kira L. Stenehjem Noll, and Kristen K. Stenehjem, both of Watford City, North Dakota, to join the Stenehjem family shareholder group acting in concert; to retain voting shares of Watford City Bancshares, Inc., and indirectly retain shares of First International Bank and Trust, both of Watford City, North Dakota.

Board of Governors of the Federal Reserve System, August 20, 2019.
Yao-Chin Chao,
Assistant Secretary of the Board.

[FR Doc. 2019-18254 Filed 8-23-19; 8:45 am]

BILLING CODE P